DEPARTMENT OF JUSTICE

Antitrust Division

Notice Pursuant to the National Cooperative Research and Production Act of 1993—National Spectrum Consortium

Notice is hereby given that, on August 16, 2016, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, NextGen Federal Systems, LLC, Morgantown, WV; AX Enterprize, LLC, Yorkville, NY; Fregata Systems LLC, St. Louis, MO; University of Alabama, Tuscaloosa, AL; Quantum Dimension, Inc., Huntington Beach, CA; Colorado School of Mines, Golden, CO; Texas A&M Engineering Experiment Station, College Station, TX; Indiana Microelectronics, LLC, West Lafayette, IN; Covariant Solutions, LLC, Gaithersburg, MD; University at Buffalo, Buffalo, NY; Ziva Corporation, San Diego, CA; Unmanned Experts, Inc., Denver, CO; D-TA Systems Corporation, Centennial, CO; Cloud Front Group, Inc., Reston, VA; NuWaves Engineering, Middletown, OH; Systems & Processes Engineering Corp (SPEC), Austin, TX; Persistent Systems, LLC, New York, NY; EOIR Technologies, Inc., Fredericksburg, VA; SCAN LLC, St. Louis, MO; BridgeSat Inc., San Mateo, CA; nLight Solutions LLC, Charlotte, NC; RT Logic, Colorado Springs, CO; Hercules Research LLC, Chantilly, VA; Aspen Consulting Group, Manasquan, NJ; DataSoft Corporation, Tempe, AZ; New Mexico State University, Las Cruces, NM; Interoptek, Inc., North Charleston, SC; Intelligent Fusion Technology, Inc., Germantown, MD; Quasonix, Inc., West Chester, OH; NEBENS, LLC, Deer Park, IL; EWA Government Systems Inc., Herndon, VA; Guidestar Optical Systems, Inc., Longmont, CO; University of Michigan, Ann Arbor, MI; Harris Corporation RF Communications Division, Rochester, NY; HRL Laboratories, LLC, Malibu, CA; and Charles River Analytics, Inc., Cambridge, MA have been added as parties to this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on May 31, 2016. A notice was published in the Federal Register pursuant to Section 6(b) of the Act on July 6, 2016 (81 FR 44047).

Patricia A. Brink,
Director of Civil Enforcement, Antitrust Division.

[FR Doc. 2016-22595 Filed 9-19-16; 8:45 am]

BILLING CODE P